DEPARTMENT OF TRANSPORTATION

Federal Aviation Administration

[Summary Notice No. PE-2006-36]

Petitions for Exemption; Summary of Petitions Received

AGENCY: Federal Aviation Administration (FAA), DOT.

ACTION: Notice of petition for exemption received.

SUMMARY: Pursuant to FAA's rulemaking provisions governing the application, processing, and disposition of petitions for exemption, part 11 of Title 14, Code of Federal Regulations (14 CFR), this notice contains a summary of certain petitions seeking relief from specified requirements of 14 CFR. The purpose of this notice is to improve the public's awareness of, and participation in, this aspect of the FAA's regulatory activities. Neither publication of this notice nor the inclusion or omission of information in the summary is intended to affect the legal status of any petition or its final disposition.

DATES: Comments on petitions received must identify the petition docket number involved and must be received on or before November 8, 2006.

ADDRESSES: Send comments on the petition to the Docket Management System, U.S. Department of Transportation, Room Plaza 401, 400 Seventh Street, SW., Washington, DC 20590-0001. You must identify the docket number FAA-2006-25985 or FAA-2006-25813 at the beginning of your comments. If you wish to receive confirmation that the FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Annette Kovite, 425-227-1262, Transport Airplane Directorate (ANM-113), Federal Aviation Administration, 1601 Lind Ave., SW., Renton, WA 98057-3356; or Frances Shaver (202-267-9681), Office of Rulemaking (ARM-1), Federal Aviation Administration, 800 Independence Avenue, SW., Washington, DC 20591. This notice is published pursuant to 14 CFR 11.85 and 11.91.

Issued in Washington, DC on October 11, 2006.
Brenda D. Courtney,
Acting Director, Office of Rulemaking.

Petitions for Exemption

Docket No.: FAA-2006-25985.

Petitioner: Flight Structures, Inc.

Section of 14 CFR Affected: Sections 25.785(d), 25.813(b), and 25.857(e).

Description of Relief Sought: Exemption from 14 CFR 25.785(d), 25.813(b), and 25.857(e) for the Airbus A300B4-600/-600R model airplanes to allow carriage of up to 5 non-crewmembers (commonly referred to as supernumeraries) in addition to the maximum 4 flight deck occupants for a total occupancy limit of 9.

Docket No.: FAA-2006-25813.

Petitioner: Dallas/Fort Worth International Airport.

Section of 14 CFR Affected: Section 139.311.

Description of Relief Sought: Exemption from 14 CFR 139.311 to allow Dallas/Fort Worth International Airport to terminate the use of the airport's existing rotating beacon. Due to development efforts the airport's beacon cannot remain in its current location. The petitioner notes that advanced methods of disseminating airport information to flight crews eliminates the need to operate and maintain a rotating beacon without reducing the level of safety due to not having a beacon.

[FR Doc. 06-8756 Filed 10-18-06; 8:45 am]

BILLING CODE 4910-13-P